DEPARTMENT OF HEALTH AND HUMAN SERVICES

Centers for Disease Control and Prevention

[30DAY-60-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

Collaborative US-Mexico Border Diabetes Prevention and Control Project—New—National Center for Chronic Disease Prevention and Health Promotion (NCCDPHP)—The Pan American Health Organization (PAHO), El Paso field office, and the United States-Mexico Border Health Association (USMBHA) in collaboration with the United States/Mexico Border Diabetes Prevention and Control Project Work Group (USMBDPCP) is requesting funds for a binational diabetes prevention and control project on the United States-Mexico border that begins with an evaluation of the burden of diabetes on the border (Phase 1) and expands into a program implementation (Phase 2), using the results from Phase 1. This proposed project is responding to President Clinton's Initiative on Racial and Ethnic Health Disparities, as well as the Mexican Secretariat Adult and Elderly Health Program strategy in which diabetes is a national health priority. Diabetes has also been declared a binational border priority by the USMBHA General Assembly in a resolution to develop diabetes control infrastructure on the border.

The purpose of the project is to diminish the impact of diabetes on the border population by conducting activities in two related and chronological phases (prevalence study and intervention program). Phase 1 will assess the prevalence of diabetes, related behavioral risk factors, and assess the health services for the border population. The information collected through this household survey will serve as a guide for the development of diabetes education and training activities in Phase 2. These programs will be culturally appropriate and will include the participation of community health workers (promotores) and primary healthcare providers. Initial planning and promotional activities needed for Phase 2 will take place concurrent with Phase 1.

Activities for years two through five will include implementation of community interventions, capacity building, and program evaluation. The household survey will be repeated in the fifth year of the project.

The PAHO/USMBHA and the USMBDPCP Work Group have obtained considerable financial support for this proposed project. The total estimated annualized burden hours are 2835.

Form name | Number of respondents | Responses per respondent | Responses in hours | Response burden
Household Screening | 5186 | 1 | 2/60 | 173
Household Survey | 3630 | 1 | 40/60 | 2420
Quality Control (10% repeat) | 363 | 1 | 40/60 | 242

Dated: August 14, 2000.
Nancy Cheal,
Acting Associate Director for Policy, Planning and Evaluation, Centers for Disease Control and Prevention (CDC).

[FR Doc. 00-21048 Filed 8-17-00; 8:45 am]

BILLING CODE 4163-18-P